DEPARTMENT OF THE TREASURY

Proposed Information Collection; Comment Request; Treasury Financial Empowerment Innovation Fund Research on Thrive `n' Shine Financial Capability Curriculum and Application (App)

AGENCY: Departmental Offices, Department of the Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). The Department of the Treasury is soliciting comments concerning a proposed information collection under a Treasury Financial Empowerment Innovation Fund project to assess the effectiveness of classroom-based financial capability curriculum and technology application (app) to enhance financial decision-making skills of high school students.

DATES: Written comments must be submitted on or before February 8, 2016 to be assure of consideration.

ADDRESSES: Comments regarding this information collection should be addressed to the Treasury Office of Consumer Policy contact listed below. All responses to this notice will be included in the request for OMB's approval. All comments will also become a matter of public record.

FOR FURTHER INFORMATION CONTACT: Requests for additional information or copies of the information collection instrument and instructions should be directed to James Gatz, Senior Policy Analyst, Office of Consumer Policy, Room 1426, Department of the Treasury, 1500 Pennsylvania Avenue NW., Washington, DC 20220, by telephone on 202-622-3946, or by email at James.Gatz@Treasury.gov.

SUPPLEMENTARY INFORMATION: OMB Number: 1505-NEW.

Title: Information Collections for Research to Evaluate the Effectiveness of the Thrive `n' Shine Financial Capability Curriculum and Application (App).

Abstract: The Department of the Treasury, Office of Consumer Policy, will use a combination of in-person interviews and web-based products to survey high school students and classroom teachers from approximately six to eight high schools to participate in the evaluation of the Thrive `n' Shine Financial Capability curriculum and technology application (app). The information collections are planned to be implemented in the classroom setting in spring 2016. The data collected will be used to evaluate the effectiveness of the new financial capability curriculum and app.

Type of Review: New information collection.

Affected Public: Individuals and households.

Obligation to Respond: Voluntary.

Estimated Number of Respondents: Approximately 700 Students and 10 Instructors.

Estimated Average Time per Respondents: Students: 45-60 minutes; Instructors: 60 minutes.

Estimated Total Annual Burden Hours: Approximately 750.

Request for Comments: Comments are invited on: (a) Whether the proposed collection of information is necessary for the proper performance of the functions of the Office of Consumer Policy, including whether the information shall have practical utility; (b) the accuracy of the above estimate of the burden of the proposed collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of service to provide information.

Dated: December 3, 2015.
Dawn D. Wolfgang,
Treasury PRA Clearance Officer.

[FR Doc. 2015-30957 Filed 12-8-15; 8:45 am]

BILLING CODE 4810-25-P